DEPARTMENT OF AGRICULTURE

Agricultural Marketing Service

7 CFR Part 985

[Docket No. FV03-985-3 C]

Marketing Order Regulating the Handling of Spearmint Oil Produced in the Far West; Revision of Administrative Rules and Regulations Governing Issuance of Additional Allotment Base to New and Existing Producers; Correction

AGENCY: Agricultural Marketing Service, USDA.

ACTION: Correcting amendment.

SUMMARY: The Agricultural Marketing Service (AMS) is adding provisions to the Code of Federal Regulations governing the issuance of additional allotment base to existing spearmint oil producers under the marketing order regulating the handling of spearmint oil grown in the Far West. These provisions were inadvertently removed in May 2000 when additional allotment base provisions for new producers were modified.

EFFECTIVE DATE: May 14, 2003.

FOR FURTHER INFORMATION CONTACT: Robert J. Curry, Northwest Marketing Field Office, Marketing Order Administration Branch, Fruit and Vegetable Programs, AMS, USDA, 1220 SW Third Avenue, suite 385, Portland, Oregon 97204; telephone: (503) 326-2724, Fax: (503) 326-7440; or George Kelhart, Technical Advisor, Marketing Order Administration Branch, Fruit and Vegetable Programs, AMS, USDA, 1400 Independence Avenue SW., STOP 0237, Washington, DC 20090-0237; telephone: (202) 720-2491, Fax: (202) 720-8938.

SUPPLEMENTARY INFORMATION:

Background

AMS discovered that an error exists in § 985.153 of the codified regulations. A final rule published in the Federal Register on Thursday, May 11, 2000 (65 FR 30341), was intended to revise provisions in § 985.153(c)(1) governing issuance of additional allotment base to new spearmint oil producers in the Far West and to leave the provisions in § 985.153(c)(2) on additional allotment base for existing producers unchanged. However, the editing instructions specified in the final rule resulted in the provisions for existing producers being removed from the codified regulations.

Need for Correction

The codified provisions in paragraph (c) of § 985.153 do not include additional allotment base procedures for existing producers. This correction document adds such provisions. The provisions added are the same as those that were in paragraph (c)(2) prior to the issuance of the final rule in May 2000.

List of Subjects in 7 CFR Part 985

Marketing agreements, Oils and fats, Reporting and recordkeeping requirements, Spearmint oil.

Accordingly, 7 CFR Part 985 is corrected by making the following amendment:

PART 985—MARKETING ORDER REGULATING THE HANDLING OF SPEARMINT OIL PRODUCED IN THE FAR WEST

1. The authority citation for 7 CFR Part 985 continues to read as follows:

Authority: 7 U.S.C. 601-674.

§ 985.153 [Corrected]

2. In § 985.153, paragraph (c)(2) is added to read as follows:

§ 985.153 Issuance of additional allotment base to new and existing producers.

* * * * *

(c) * * *

(2) Existing producers. (i) The Committee shall review all requests from existing producers for additional allotment base.

(ii) Each existing producer of a class of spearmint oil who requests additional allotment base and who has the ability to produce additional quantities of that class of spearmint oil, shall be eligible to receive a share of the additional allotment base for that class of oil. Additional allotment base to be issued by the Committee for a class of oil shall be distributed equally among the eligible producers for that class of oil. The Committee shall immediately notify each producer who is to receive additional allotment base by issuing that producer an allotment base in the appropriate amount.

Dated: May 7, 2003.
A.J. Yates,
Administrator, Agricultural Marketing Service.

[FR Doc. 03-11891 Filed 5-12-03; 8:45 am]

BILLING CODE 3410-02-U